DEPARTMENT OF AGRICULTURE

Forest Service

Information Collection; Request for Comment; Public Attitudes, Beliefs, and Values About National Forest Systems Land Management

AGENCY: Forest Service, USDA.

ACTION: Notice.

SUMMARY: In accordance with the Paperwork Reduction Act of 1995, the Forest Service is seeking comments from all interested individuals and organizations on the new information collection, Public Attitudes, Beliefs, and Values about National Forest Systems Land Management.

DATES: Comments must be received in writing on or before October 1, 2004, to be assured of consideration. Comments received after that date will be considered to the extent practicable.

ADDRESSES: Comments concerning this notice should be addressed to Fred P. Clark, Human Dimensions Program Manager, Forest Service, USDA, 626 East Wisconsin Ave., Milwaukee, WI 53202.

Comments also may be submitted via facsimile to (414) 944-3974 or by e-mail to: fclark@fs.fed.us.

The public may inspect comments received at the first floor information desk at the Forest Service, USDA, 626 East Wisconsin Avenue, Milwaukee, Wisconsin, during normal business hours. Visitors are encouraged to call ahead to Fred Clark at (414) 297-1181 to facilitate entry to the building.

FOR FURTHER INFORMATION CONTACT: Fred Clark, Human Dimensions Program Manager for Region 9 at (414) 297-1181.

Individuals who use telecommunication devices for the deaf (TDD) may call the Federal Relay Service (FRS) at 1-800-877-8339 twenty-four hours a day, every day of the year, including holidays.

SUPPLEMENTARY INFORMATION: Title: Public Attitudes, Beliefs, and Values about National Forest Systems Land Management.

OMB Number: 0596-New.

Expiration Date of Approval: New.

Type of Request: New.

Abstract: As a steward of public lands the USDA Forest Service must use public attitudes, beliefs, and values (ABV) information to inform resource allocation and land management decisions. Several tests will be done at a state level over the next three years. This series of tests will be used to develop a set of questions that will be pre-approved by OMB to facilitate on-time data collection and ease of use by forest level social scientists and contractors.

The need for this information is stated in various legislative acts, regulatory documents, laws and executive orders that define and guide the mission and conduct of the Forest Service, including MUSY, NEPA, RPA, NFMA, HFRA, Environmental Justice Executive Order, Civil Rights Act, and Government Performance and Results Act. The authority, objectives, and responsibilities associated with this guide are outlined in the Forest Service Handbook, Forest Service Strategic Plan.

The information will be collected using a standard multiple response collection instrument. Trained interviewers will ask the questions on the telephone or paper questionnaires will be mailed to respondents. Information collection will be done by contract with a proven data collection manager. Information collected will include attitudes, beliefs, and values ABVs about fire management and associated treatments, vegetation management, recreation demand and recreation use. ABV Information will be collected from a statistically representative random sample of the population to enable contrasts at a local level, State level and national level. This information will be used to inform decisionmakers and as input to the forest planning process. Information will be analyzed by Forest Service subject matter experts and statisticians.

The consequence to Forest Service Planning and Management if the collection is not conducted would be significant. Managers are required to make decisions which consider public opinion. Without the ability to use this standard design which includes statistically valid and documented methods for the collection of ABV information, data collection and the incorporation of that information into decisions may not happen. Managers may be forced to write forest plans and make resource allocation decisions without the benefit of knowing public values and beliefs about the issues and resources under consideration.

Estimate of Annual Burden: 15 minutes.

Type of Respondents: Respondents will be a random sample of the population of a State for these tests.

Estimated Annual Number of Respondents: 2000.

Estimated Annual Number of Responses per Respondent: 1.

Estimated Total Annual Burden on Respondents: 30,000 minutes.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

Use of Comments

All comments received in response to this notice, including names and addresses when provided, will be a matter of public record. Comments will be summarized and included in the submission request for Office of Management and Budget approval.

Dated: July 21, 2004.
Frederick R. Norbury,
Associate Deputy Chief, National Forest System.

[FR Doc. 04-17462 Filed 7-30-04; 8:45 am]

BILLING CODE 3410-11-P